FEDERAL HOUSING FINANCE BOARD

[No. 2003-N-4]

Federal Home Loan Bank Members Selected for Community Support Review

AGENCY: Federal Housing Finance Board.

ACTION: Notice.

SUMMARY: The Federal Housing Finance Board (Finance Board) is announcing the Federal Home Loan Bank (Bank) members it has selected for the 2002-03 fifth quarter review cycle under the Finance Board's community support requirements regulation. This notice also prescribes the deadline by which Bank members selected for review must submit Community Support Statements to the Finance Board.

DATES: Bank members selected for the 2002-03 fifth quarter review cycle under the Finance Board's community support requirements regulation must submit completed Community Support Statements to the Finance Board on or before May 26, 2003.

ADDRESSES: Bank members selected for the 2002-03 fifth quarter review cycle under the Finance Board's community support requirements regulation must submit completed Community Support Statements to the Finance Board either by regular mail at the Federal Housing Finance Board, Office of Supervision, Community Investment and Affordable Housing, 1777 F Street, NW., Washington, DC 20006, or by electronic mail at fitzgeralde@fhfb.gov.

FOR FURTHER INFORMATION CONTACT: Emma J. Fitzgerald, Program Analyst, Office of Supervision, Community Investment and Affordable Housing, by telephone at 202/408-2874, by electronic mail at fitzgeralde@fhfb.gov, or by regular mail at the Federal Housing Finance Board, 1777 F Street, NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the May 26, 2003 deadline prescribed in this notice. 12 CFR 944.2(b)(1)(ii) and (c). On or before April 28, 2003, each Bank will notify the members in its district that have been selected for the 2002-03 fifth quarter community support review cycle that they must complete and submit to the Finance Board by the deadline a Community Support Statement. 12 CFR 944.2(b)(2)(i). The member's Bank will provide a blank Community Support Statement Form, which also is available on the Finance Board's web site: http://www.fhfb.gov. Upon request, the member's Bank also will provide assistance in completing the Community Support Statement.

The Finance Board has selected the following members for the 2002-03 fifth quarter community support review cycle:

Federal Home Loan Bank of Boston—District 1

People's Bank, Bridgeport, Connecticut

Farmington Savings Bank, Farmington, Connecticut

Savings Bank of Manchester, Manchester, Connecticut

Liberty Bank, Middletown, Connecticut

Naugatuck Savings Bank, Naugatuck, Connecticut

The Citizens National Bank, Putnam, Connecticut

Simsbury Bank and Trust Company, Simsbury, Connecticut

Windsor Federal Savings & Loan, Windsor, Connecticut

Windsor Locks Community Bank, FSL, Windsor Locks, Connecticut

United Kingfield Bank, Bangor, Maine

Ocean Communities Federal Credit Union, Biddeford, Maine

St. Joseph's Credit Union, Biddeford, Maine

The First National Bank of Damariscotta, Damariscotta, Maine

Gardiner Savings Institution FSB, Gardiner, Maine

Machias Savings Bank, Machias, Maine

Katahdin Federal Credit Union, Millinocket, Maine

St. Croix Federal Credit Union, Woodland, Maine

Tremont Credit Union, Boston, Massachusetts

University Credit Union, Boston, Massachusetts

Brockton Credit Union, Brockton, Massachusetts

Broadway National Bank, Chelsea, Massachusetts

Dedham Co-operative Bank, Dedham, Massachusetts

Everett Credit Union, Everett, Massachusetts

Worker's Credit Union, Fitchburg, Massachusetts

Framingham Co-operative Bank, Framingham, Massachusetts

The Benjamin Franklin Savings Bank, Franklin, Massachusetts

Dean Cooperative Bank, Franklin, Massachusetts

Greenfield Savings Bank, Greenfield, Massachusetts

UMassFive College Federal Credit Union, Hadley, Massachusetts

Hanscom Federal Credit Union, Hanscom AFB, Massachusetts

Economy Co-operative Bank, Merrimac, Massachusetts

Mayflower Cooperative Bank, Middleborough, Massachusetts

Millbury Federal Credit Union, Millbury, Massachusetts

Compass Bank for Savings, New Bedford, Massachusetts

First Citizens' Federal Credit Union, New Bedford, Massachusetts

North Shore Bank, A Co-Operative Bank, Peabody, Massachusetts

Berkshire Bank, Pittsfield, Massachusetts

The Pittsfield Cooperative Bank, Pittsfield, Massachusetts

Sharon Co-operative Bank, Sharon, Massachusetts

Slade's Ferry Trust Company, Somerset, Massachusetts

Central Cooperative Bank, Somerville, Massachusetts

Savers Co-operative Bank, Southbridge, Massachusetts

Southbridge Savings Bank, Southbridge, Massachusetts

Stoneham Co-operative Bank, Stoneham, Massachusetts

The Martha's Vineyard Co-operative Bank, Vineyard Haven, Massachusetts

Ware Co-operative Bank, Ware, Massachusetts

United Cooperative Bank, West Springfield, Massachusetts

Westfield Savings Bank, Westfield, Massachusetts

Winthrop Federal Credit Union, Winthrop, Massachusetts

Flagship Bank and Trust Company, Worcester, Massachusetts

Connecticut River Bank N.A. Charleston, New Hampshire

Claremont Savings, Claremont, New Hampshire

Triangle Credit Union, Nashua, New Hampshire

Sugar River Savings Bank, Newport, New Hampshire

Lake Sunapee Bank, Newport, New Hampshire

Piscataqua Savings Bank, Portsmouth, New Hampshire

Service Credit Union, Portsmouth, New Hampshire

The Washington Trust Company, Westerly, Rhode Island

The Bank of Bennington, Bennington, Vermont

Factory Point National Bank, Manchester Center, Vermont

Heritage Family Credit Union, Rutland, Vermont

Passumpsic Savings Bank, St. Johnsbury, Vermont

Federal Home Loan Bank of New York—District 2

Ocwen Federal Bank FSB, West Palm Beach, Florida

American Savings Bank of NJ, Bloomfield, New Jersey

Clifton Savings Bank, S.L.A., Clifton, New Jersey

Sussex Bank, Franklin, New Jersey

First Hope Bank, a national banking association, Hope, New Jersey

Magyar Savings Bank, New Brunswick, New Jersey

Lusitania Savings Bank, fsb, Newark, New Jersey

Roebling Bank, Roebling, New Jersey

Penn Federal Savings Bank, West Orange, New Jersey

Monroe Savings Bank, S.L.A., Williamstown, New Jersey

Franklin Savings Bank, Woodstown, New Jersey

BSB Bank & Trust Company, Binghamton, New York

Ponce De Leon Federal Bank, Bronx, New York

Atlantic Liberty Savings, Brooklyn, New York

Community Capital Bank, Brooklyn, New York

The Bank of Castile, Castile, New York

Fulton Savings Bank, Fulton, New York

Astoria Federal Savings & Loan Association, Lake Success, New York

Pittsford Federal Credit Union, Mendon, New York

First Federal Savings of Middletown, Middletown, New York

Amalgamated Bank, New York, New York

United Orient Bank, New York, New York

Northfield Savings Bank, Staten Island, New York

Empire Federal Credit Union, Syracuse, New York

Wallkill Valley FS&LA, Wallkill, New York

The Bank & Trust of Puerto Rico, San Juan, Puerto Rico

Federal Home Loan Bank of Pittsburgh—District 3

Citicorp Trust Bank, FSB, Newark, Delaware

Wilmington Savings Fund Society, FSB, Wilmington, Delaware

C & G Savings Bank, Altoona, Pennsylvania

Ambler Savings & Loan Association, Ambler, Pennsylvania

First Star Savings Bank, Bethlehem, Pennsylvania

First FS&LA of Bucks County, Bristol, Pennsylvania

Alliance Bank, Broomall, Pennsylvania

Sharon Savings Bank, Darby, Pennsylvania

ESB Bank, Ellwood City, Pennsylvania

County Savings Association, Essington, Pennsylvania

Stonebridge Bank, Exton, Pennsylvania

Bank of Hanover and Trust Company, Hanover, Pennsylvania

Fox Chase Bank, Hatboro, Pennsylvania

Hatboro Federal Savings, Hatboro, Pennsylvania

First Federal Bank, Hazleton, Pennsylvania

William Penn Savings and Loan Association, Levittown, Pennsylvania

Willow Grove Bank, Maple Glen, Pennsylvania

First Keystone Federal Savings Bank, Media, Pennsylvania

Morton Savings Bank, Morton, Pennsylvania

Nesquehoning Savings Bank, Nesquehoning, Pennsylvania

Third Federal Bank, Newtown, Pennsylvania

Malvern Federal Savings Bank, Paoli, Pennsylvania

First Savings Bank of Perkasie, Perkasie, Pennsylvania

Asian Bank, Philadelphia, Pennsylvania

Pennsylvania Business Bank, Philadelphia, Pennsylvania

Second FS&LA of Philadelphia, Philadelphia, Pennsylvania

Washington Savings Association, Philadelphia, Pennsylvania

Bell FS&LA of Bellevue, Pittsburgh, Pennsylvania

Great American Federal, Pittsburgh, Pennsylvania

National City Bank of Pennsylvania, Pittsburgh, Pennsylvania

Progressive Home FS&LA, Pittsburgh, Pennsylvania

Patriot Bank, Pottstown, Pennsylvania

The Quakertown National Bank, Quakertown, Pennsylvania

Mercer County State Bank, Sandy Lake, Pennsylvania

North Penn Savings & Loan Association, Scranton, Pennsylvania

Penn Security Bank, & Trust Company, Scranton, Pennsylvania

Slovenian S&LA of Canonsburg, Strabane, Pennsylvania

First National Bank of West Chester, West Chester, Pennsylvania

First Heritage Bank, Wilkes-Barre, Pennsylvania

WNB Bank, Williamsport, Pennsylvania

First Century Bank, Bluefield, West Virginia

Pioneer Community Bank, Iaeger, West Virginia

Bank of Mount Hope, Inc., Mount Hope, West Virginia

Community Bank of Parkersburg, Parkersburg, West Virginia

First National Bank, Spencer, West Virginia

Pleasants County Bank, St. Marys, West Virginia

Poca Valley Bank, Walton, West Virginia

Federal Home Loan Bank of Atlanta—District 4

Covington County Bank, Andalusia, Alabama

United Bank, Atmore, Alabama

AmSouth Bank, Birmingham, Alabama

Bank of Alabama, Birmingham, Alabama

New South Federal Savings Bank, Birmingham, Alabama

Community Bank, Blountsville, Alabama

BankTrust, Brewton, Alabama

Cullman Savings Bank, Cullman, Alabama

Peoples Bank of North Alabama, Cullman, Alabama

First American Bank, Decatur, Alabama

The Citizens Bank, Enterprise, Alabama

Commerce South Bank, Eufala, Alabama

EvaBank, Eva, Alabama

First Gulf Bank, Gulf Shores, Alabama

Merchants Bank, Jackson, Alabama

Farmers & Merchants Bank, Lafayette, Alabama

Southwest Bank of Alabama, Inc., McIntosh, Alabama

Bank Trust, Mobile, Alabama

Community Spirit Bank, Red Bay, Alabama

Valley State Bank, Russellville, Alabama

The Peoples Bank and Trust Company, Selma, Alabama

Sweet Water State Bank, Sweet Water, Alabama

First Federal of the South, Sylacauga, Alabama

First Citizens Bank, Talladega, Alabama

The First National Bank of Talladega, Talladega, Alabama

First United Security Bank, Thomasville, Alabama

City First Bank of D.C., N.A., Washington, D. C.

Citrus and Chemical Bank, Bartow, Florida

Mackinac Savings Bank, FSB, Boynton Beach, Florida

First FSB of the Glades, Clewiston, Florida

First Bank of Clewiston, Clewiston, Florida

First National Bank of Crestview, Crestview, Florida

Regent Bank, Davie, Florida

Dunnellon State Bank, Dunnellon, Florida

Landmark Bank, N.A., Ft. Lauderdale, Florida

Premier Community Bank of South Florida, Ft. Lauderdale, Florida

Old Florida Bank, Fort Myers, Florida

First City Bank of Florida, Fort Walton Beach, Florida

Desjardins Federal Savings Bank, Hallandale, Florida

First National Bank of South Florida, Homestead, Florida

Florida Community Bank, Immokalee, Florida

The Bank of Inverness, Inverness, Florida

Educational Community Credit Union, Jacksonville, Florida

First Guaranty Bank and Trust Company, Jacksonville, Florida

Monticello Bank, Jacksonville, Florida

Publix Employees FCU, Lakeland, Florida

First FSB of Lake County, Leesburg, Florida

First Federal Savings Bank, Live Oak, Florida

Commercial Bank of Florida, Miami, Florida

Eastern National Bank, Miami, Florida

Helm Bank, Miami, Florida

Tropical Financial Credit Union, Miami, Florida

Pelican National Bank, Naples, Florida

American National Bank, Oakland Park, Florida

CNL Bank, Orlando, Florida

First Community Bank of Palm Beach County, Pahokee, Florida

Peoples First Community Bank, Panama City, Florida

Century Bank, a Federal Savings Bank, Sarasota, Florida

Highlands Independent Bank, Sebring, Florida

Eastern Financial Florida Credit Union, South Florida, Florida

Raymond James Bank, FSB, St. Petersburg, Florida

United Southern Bank, Umatilla, Florida

Marine Bank and Trust, Vero Beach, Florida

Sterling Bank, F.S.B., West Palm Beach, Florida

Montgomery County Bank, Ailey, Georgia

Chattahoochee National Bank, Alpharetta, Georgia

First Colony Bank, Alpharetta, Georgia

Citizens Trust Bank, Atlanta, Georgia

First Bank of Georgia, Augusta, Georgia

United Community Bank, Blairsville, Georgia

First National Bank of Georgia, Buchanan, Georgia

Bank of Chickamauga, Chickamauga, Georgia

Peoples Community Bank of Colquitt, Colquitt, Georgia

Peoples Community Bank, Colquitt, Georgia

First Bank of Dalton, Dalton, Georgia

Bank of Dudley, Dudley, Georgia

The Peoples Bank, Eatonton, Georgia

Pinnacle Bank, N.A., Elberton, Georgia

Gainesville Bank and Trust, Gainesville, Georgia

First Citizens Bank, Glennville, Georgia

South Georgia Bank, Glennville, Georgia

SunMark Community Bank, Hawkinsville, Georgia

Community Trust Bank, Hiram, Georgia

Northeast Georgia Bank, Lavonia, Georgia

Peoples Bank, Lithonia, Georgia

The Community Bank, Loganville, Georgia

Rivoli Bank & Trust, Macon, Georgia

First Security National Bank, Norcross, Georgia

Family Bank, Pelham, Georgia

The Citizens National Bank of Quitman, Quitman, Georgia

Wilcox County State Bank, Rochelle, Georgia

Citizens First Bank, Rome, Georgia

Farmers and Merchants Community Bank, Senoia, Georgia

Quantum National Bank, Suwanee, Georgia

Bank of Thomas County, Thomasville, Georgia

Citizens Bank & Trust, Trenton, Georgia

Farmers and Merchants Bank, Washington, Georgia

First Piedmont Bank, Winder, Georgia

Bay-Vanguard Federal Savings Bank, Baltimore, Maryland

Hull Federal Savings Bank, Baltimore, Maryland

Ideal Federal Savings Bank, Baltimore, Maryland

State Employees Credit Union, Baltimore, Maryland

Susquehanna Bank, Baltimore, Maryland

Vigilant Federal Savings Bank, Baltimore, Maryland

F&M Bank—Allegiance, Bethesda, Maryland

TMB Federal Credit Union, Cabin John, Maryland

Cecil Federal Bank, Elkton, Maryland

The Back and Middle River FS&L, Essex, Maryland

County National Bank, Glen Burnie, Maryland

North Arundel FSB, FSB, Pasadena, Maryland

Provident State Bank of Preston, Preston, Maryland

IR Federal Credit Union, Riverdale, Maryland

Randolph Bank & Trust Company, Asheboro, North Carolina

First Commerce Bank, Charlotte, North Carolina

First Union Direct Bank, N.A., Charlotte, North Carolina

Rowan Savings Bank, SSB, China Grove, North Carolina

Mechanics and Farmers Bank, Durham, North Carolina

Gateway Bank & Trust Company, Elizabeth City, North Carolina

Macon Bank, Franklin, North Carolina

First Gaston Bank of North Carolina, Gastonia, North Carolina

Carolina Bank, Greensboro, North Carolina

MountainBank, Hendersonville, North Carolina

Hertford Savings Bank, SSB, Hertford, North Carolina

The Little Bank, Kinston, North Carolina

Industrial Federal Savings Bank, Lexington, North Carolina

Lexington State Bank, Lexington, North Carolina

Liberty Savings and Loan Association, Liberty, North Carolina

First Savings and Loan Association, Mebane, North Carolina

American Community Bank, Monroe, North Carolina

Mount Gilead S&LA, Mount Gilead, North Carolina

State Employees' Credit Union, Raleigh, North Carolina

Taylorsville Savings Bank, SSB, Taylorsville, North Carolina

Anson Bank & Trust Company, Wadesboro, North Carolina

Waccamaw Bank, Whiteville, North Carolina

Cooperative Bank for Svgs, Inc., SSB, Wilmington, North Carolina

Loyal American Life Insurance Company, Cincinnati, Ohio

People's Community Bank of S.C., Aiken, South Carolina

Home Federal Savings and Loan Assn, Bamberg, South Carolina

Florence National Bank, Florence, South Carolina

GrandSouth Bank, Fountain Inn, South Carolina

Bank of Greeleyville, Greeleyville, South Carolina

County Bank, Greenwood, South Carolina

Greer State Bank, Greer, South Carolina

First National Bank of South Carolina, Holly Hill, South Carolina

Kingstree FS&LA, Kingstree, South Carolina

The Bank of Clarendon, Manning, South Carolina

Southcoast Community Bank, Mt. Pleasant, South Carolina

Anderson Brothers Bank, Mullins, South Carolina

Pickens Savings & Loan Association, Pickens, South Carolina

Bank of Travelers Rest, Travelers Rest, South Carolina

Napus Federal Credit Union, Alexandria, Virginia

The Blue Grass Valley Bank, Blue Grass, Virginia

The Bank of Southside Virginia, Carson, Virginia

Second Bank & Trust, Culpeper, Virginia

Apple Federal Credit Union, Fairfax, Virginia

Chesapeake Bank, Kilmarnock, Virginia

Imperial Savings and Loan Association, Martinsville, Virginia

Navy Federal Credit Union, Merrifield, Virginia

Bank of the Commonwealth, Norfolk, Virginia

Lee Bank and Trust Company, Pennington Gap, Virginia

First , Virginia Bank—Colonial, Richmond, Virginia

The Marathon Bank, Winchester, Virginia

Federal Home Loan Bank of Cincinnati—District 5

Farmers Bank & Trust Company, Bardstown, Kentucky

Wilson & Muir Bank and Trust Company, Bardstown, Kentucky

Bank of Cadiz and Trust Company, Cadiz, Kentucky

Bank of Columbia, Columbia, Kentucky

First Federal Savings Bank, Cynthiana, Kentucky

The Harrison Deposit Bank and Trust Company, Cynthiana, Kentucky

Kentucky National Bank, Elizabethtown, Kentucky

Farmers Bank, Hardinsburg, Kentucky

Hancock Bank and Trust Company, Hawesville, Kentucky

Peoples Bank & Trust Company of Hazard, Hazard, Kentucky

Heritage Bank, Hopkinsville, Kentucky

Planters Bank, Inc., Hopkinsville, Kentucky

Bank of Jamestown, Jamestown, Kentucky

THE BANK—Oldham County, Inc., LaGrange, Kentucky

Leitchfield Deposit Bank and Trust Company, Leitchfield, Kentucky

Central Bank & Trust Company, Inc., Lexington, Kentucky

L&N Federal Credit Union, Louisville, Kentucky

River City Bank, Louisville, Kentucky

Farmers Bank & Trust Company of Marion, Kentucky, Marion, Kentucky

Monticello Banking Company, Monticello, Kentucky

Pioneer Bank, Munfordville, Kentucky

South Central Bank of Daviess County, Inc., Owensboro, Kentucky

The Salt Lick Deposit Bank, Owingsville, Kentucky

Blue Grass Federal Savings and Loan Association, Paris, Kentucky

First Commonwealth Bank of Prestonsburg, Inc., Prestonsburg, Kentucky

Fort Knox National Bank, Radcliff, Kentucky

Belpre Savings Bank, Belpre, Ohio

The Farmers Citizens Bank, Bucyrus, Ohio

Eagle Savings Bank, Cincinnati, Ohio

The Mercantile Savings Bank, Cincinnati, Ohio

Union Savings Bank, Cincinnati, Ohio

The Winton Savings and Loan Company, Cincinnati, Ohio

Conneaut Savings Bank, Conneaut, Ohio

The Commercial Bank, Delphos, Ohio

The Fort Jennings State Bank, Fort Jennings, Ohio

The Hamler State Bank, Hamler, Ohio

Morgan Bank, N.A., Hudson, Ohio

The Fahey Banking Company of Marion, Marion, Ohio

Citizens National Bank of McConnelsville, McConnelsville, Ohio

Great Lakes Bank, Mentor, Ohio

The American Savings Bank, Middletown, Ohio

First National Bank of New Holland, New Holland, Ohio

The Farmers State Bank, New Washington, Ohio

First National Bank, Orrville, Ohio

The Republic Banking Company, Republic, Ohio

Chippewa Valley Bank, Rittman, Ohio

Mutual Federal Savings Bank, Sidney, Ohio

The Security National Bank and Trust Company, Springfield, Ohio

Central Federal Savings and Loan Association of Wellsville, Wellsville, Ohio

The Peoples Savings and Loan Company, West Liberty, Ohio

The Union Banking Company, West Mansfield, Ohio

Farmers State Bank, West Salem, Ohio

First Community Bank, Whitehall, Ohio

The Wilmington Savings Bank, Wilmington, Ohio

The Wayne Savings Community Bank, Wooster, Ohio

Brighton Bank, Brighton, Tennessee

Cumberland Bank, Carthage, Tennessee

Highland Federal Savings and Loan Association Of Crossville, Crossville, Tennessee

Security Federal Bank, Elizabethton, Tennessee

The Lauderdale County Bank, Halls, Tennessee

Carroll Bank & Trust, Huntingdon, Tennessee

First National Bank, Manchester, Tennessee

The Coffee County Bank, Manchester, Tennessee

The Home Bank of Tennessee, Maryville, Tennessee

Memphis Area Teachers' Credit Union, Memphis, Tennessee

The Bank of Moscow, Moscow, Tennessee

Johnson County Bank, Mountain City, Tennessee

Bank of Murfreesboro, Murfreesboro, Tennessee

Home Banking Company, Selmer, Tennessee

Federal Home Loan Bank of Indianapolis—District 6

Bedford Federal Savings Bank, Bedford, Indiana

Franklin County National Bank, Brookville, Indiana

Union Federal Savings & Loan Association, Crawfordsville, Indiana

Decatur Bank and Trust Company, Decatur, Indiana

United Fidelity Bank, Evansville, Indiana

Fowler State Bank, Fowler, Indiana

First Federal Savings Bank, Huntington, Indiana

Campbell & Fetter Bank, Kendallville, Indiana

United Community Bank, Lawrenceburg, Indiana

River Valley Financial Bank, Madison, Indiana

Fidelity FSB, Marion, Indiana

State Bank of Markle, Markle, Indiana

First State Bank of Middlebury, Middlebury, Indiana

Citizens Financial Services, FSB, Munster, Indiana

Regional Federal Savings Bank, New Albany, Indiana

Community Bank of Southern Indiana, New Albany, Indiana

Ameriana Bank and Trust, New Castle, Indiana

AmericanTrust FSB, Peru, Indiana

Mid-Southern Savings Bank, FSB, Salem, Indiana

Spencer County Bank, Santa Claus, Indiana

Jackson County Bank, Seymour, Indiana

Shelby County Bank, Shelbyville, Indiana

Sobieski Bank, South Bend, Indiana

Security Federal Bank, FSB, St. John, Indiana

Terre Haute Savings Bank, Terre Haute, Indiana

Frances Slocum Bank, Wabash, Indiana

Homestead Savings Bank, FSB, Albion, Michigan

Ann Arbor Commerce Bank, Ann Arbor, Michigan

Charlevoix State Bank, Charlevoix, Michigan

Dearborn Federal Savings Bank, Dearborn, Michigan

Financial Health Credit Union, East Lansing, Michigan

Firstbank-Lakeview, Lakeview, Michigan

State Employees Credit Union, Lansing, Michigan

Independent Bank South Michigan, Leslie, Michigan

State Savings Bank, Manistique, Michigan

Mason State Bank, Mason, Michigan

Community Federal Credit Union, Plymouth, Michigan

Team One Credit Union, Saginaw, Michigan

Sidney State Bank, Sidney, Michigan

Standard Federal Bank National Association, Troy, Michigan

Flagstar Bank, Troy, Michigan

Research Federal Credit Union, Warren, Michigan

1st Bank, West Branch, Michigan

Federal Home Loan Bank of Chicago—District 7

Oxford Bank and Trust, Addison, Illinois

Bank of Bellwood, Bellwood, Illinois

Heartland Bank & Trust Company, Bloomington, Illinois

Peoples Bank of Kankakee County, Bourbonnais, Illinois

Bridgeview Bank and Trust, Bridgeview, Illinois

Southe Pointe Bank, Carbondale, Illinois

United Community Bank, Chatham, Illinois

Amalgamated Bank of Chicago, Chicago, Illinois

Austin Bank of Chicago, Chicago, Illinois

Builders Bank, Chicago, Illinois

Burling Bank, Chicago, Illinois

Community Bank of Lawndale, Chicago, Illinois

First Savings Bank of Hegewisch, Chicago, Illinois

Foster Bank, Chicago, Illinois

State Bank of Countryside, Countryside, Illinois

First Savings Bank, Danville, Illinois

Clover Leaf Bank, Edwardsville, Illinois

Effingham State Bank, Effingham, Illinois

Illinois Community Bank, Effingham, Illinois

Washington Savings Bank, Effingham, Illinois

Elgin Financial Savings Bank, Elgin, Illinois

First American Bank, Elk Grove Village, Illinois

Forest Park National Bank & Trust Company, Forest Park, Illinois

Harris Bank Frankfort, Frankfort, Illinois

Union Savings Bank, Freeport, Illinois

Central Bank Illinois, Geneseo, Illinois

Bank of Gibson City, Gibson City, Illinois

Northside Community Bank, Gurnee, Illinois

UnionBank/Northwest, Hanover, Illinois

Parkway Bank & Trust Company, Harwood Heights, Illinois

North Central Bank, Hennepin, Illinois

State Bank of Herscher, Herscher, Illinois

First State Bank of Heyworth, Heyworth, Illinois

The Farmers State Bank and Trust Company, Jacksonville, Illinois

First FS&LA of Kewanee, Kewanee, Illinois

Logan County Bank, Lincoln, Illinois

Twin Oaks Savings Bank, Marseilles, Illinois

Citizens Community Bank, Mascoutah, Illinois

Okaw Building and Loan, s.b., Mattoon, Illinois

Middletown State Bank, Middleton, Illinois

Blackhawk State Bank, Milan, Illinois

Parish Bank and Trust Company, Momence, Illinois

First State Bank of Monticello, Monticello, Illinois

BankPlus, Morton, Illinois

George Washington Savings Bank, Oak Lawn, Illinois

The First National Bank of Ogden, Ogden, Illinois

The First National Bank of Okawville, Okawville, Illinois

First National Bank in Olney, Olney, Illinois

The Edgar County Bank & Trust Company, Paris, Illinois

First FS&LA of Pekin, Pekin, Illinois

First National Bank in Pinckneyville, Pinckneyville, Illinois

State Street Bank & Trust Company, Quincy, Illinois

Mercantile Trust and Savings Bank, Quincy, Illinois

North County Savings Bank, Red Bud, Illinois

First Crawford State Bank, Robinson, Illinois

American Bank and Trust Company, Rock Island, Illinois

Stillman BancCorp, N.A., Rockford, Illinois

First Savanna Savings Bank, Savanna, Illinois

First State Bank of Shannon-Polo, Shannon, Illinois

Security Bank, sb, Springfield, Illinois

UmbrellaBank, FSB, Summit, Illinois

The National Bank & Trust Company of Sycamore, Sycamore, Illinois

Alpha Community Bank, Toluca, Illinois

Villa Park Trust & Savings Bank, Villa Park, Illinois

Citizens First State Bank, Walnut, Illinois

The Hill Dodge Banking Company, Warsaw, Illinois

State Bank of Waterloo, Waterloo, Illinois

Cardunal Savings Bank, FSB, West Dundee, Illinois

First American Credit Union, Beloit, Wisconsin

Jackson County Bank, Black River Falls, Wisconsin

State Bank of Cross Plains, Cross Plains, Wisconsin

State Financial Bank, National Association, Hales Corners, Wisconsin

AM Community Credit Union, Kenosha, Wisconsin

Time Federal Savings Bank, Medford, Wisconsin

M&I Marshall & Ilsley Bank, Milwaukee, Wisconsin

Marine Bank, Pewaukee, Wisconsin

Community Bank Spring Green & Plain, Spring Green, Wisconsin

Tomahawk Community Bank SSB, Tomahawk, Wisconsin

Federal Home Loan Bank of Des Moines—District 8

Peoples Trust & Savings Bank, Adel, Iowa

Security State Bank, Anamosa, Iowa

State Savings Bank, Baxter, Iowa

Farmers Trust and Savings Bank, Buffalo Center, Iowa

Linn Area Credit Union, Cedar Rapids, Iowa

United Security Savings Bank, F.S.B., Cedar Rapids, Iowa

Citizens State Bank, Clarinda, Iowa

Clear Lake Bank & Trust Company, Clera Lake, Iowa

Gateway State Bank, Clinton, Iowa

Cresco Union Savings Bank, Cresco, Iowa

Denver Savings Bank, Denver, Iowa

DeWitt Bank & Trust Company, DeWitt, Iowa

Premier Bank, Dubuque, Iowa

Liberty Trust and Savings Bank, Durant, Iowa

Farmers Trust & Savings Bank, Earling, Iowa

Hardin County Savings Bank, Eldora, Iowa

Peoples State Bank, Elkader, Iowa

Bank Plus Estherville, Iowa

NorthStar Bank, Estherville, Iowa

Fort Madison Bank & Trust Company, Fort Madison, Iowa

Security Savings Bank, Gowrie, Iowa

Midstates Bank, NA, Harlan, Iowa

Hills Bank and Trust Company, Hills, Iowa

First State Bank, Huxley, Iowa

First State Bank, Ida Grove, Iowa

Peoples Savings Bank, Indianola, Iowa

Iowa Falls State Bank, Iowa Falls, Iowa

Kerndt Brothers Savings Bank, Lansing, Iowa

Libertyville Savings Bank, Libertyville, Iowa

First State Bank, Lynnville, Iowa

First National Bank, Manning, Iowa

Valley Bank & Trust, Mapleton, Iowa

Maquoketa State Bank, Maquoketa, Iowa

Maynard Savings Bank, Maynard, Iowa

Union State Bank, Monona, Iowa

Citizens State Bank, Monticello, Iowa

Wayland State Bank, Mount Pleasant, Iowa

Mount Vernon Bank, and Trust Company, Mount Vernon, Iowa

Community Bank, Muscatine, Iowa

Horizon Federal Savings Bank, Oskaloosa, Iowa

First National Bank Midwest, Oskaloosa, Iowa

Pella State Bank, Pella, Iowa

First State Bank, Riceville, Iowa

Peoples Bank, Rock Valley, Iowa

Union State Bank, Rockwell City, Iowa

Rolfe State Bank, Rolfe, Iowa

Security State Bank, Sheldon, Iowa

First Community Bank, Sidney, Iowa

St. Ansgar State Bank, St. Ansgar, Iowa

Victor State Bank, Victor, Iowa

Washington State Bank, Washington, Iowa

Citizens State Bank, Waukon, Iowa

Iowa State Bank, West Bend, Iowa

GuideOne Life Insurance Company, West Des Moines, Iowa

GuideOne Mutual Insurance Company, West Des Moines, Iowa

GuideOne Specialty Insurance Company, West Des Moines, Iowa

Wilton Savings Bank, Wilton, Iowa

Sterling State Bank, Austin, Minnesota

White Rock Bank, Cannon Falls, Minnesota

Currie State Bank, Currie, Minnesota

State Bank of Danvers, Danvers, Minnesota

State Bank of Delano, Delano, Minnesota

Voyager Bank, Eden Prairie, Minnesota

Inter Savings Bank, fsb, Edina, Minnesota

Stearns Bank Evansville, NA, Evansville, Minnesota

1st United Bank, Faribault, Minnesota

Border State Bank of Greenbush, Greenbush, Minnesota

Citizens State Bank of Hayfield, Hayfield, Minnesota

Farmers State Bank of Hoffman, Hoffman, Minnesota

Fortress Bank National Association, Houston, Minnesota

Security State Bank of Howard Lake, Howard Lake, Minnesota

Key Community Bank, Inver Grove Heights, Minnesota

First Security Bank—Lake Benton, Lake Benton, Minnesota

Lake City Federal Savings and Loan Association, Lake City, Minnesota

Lake Area Bank, Lindstrom, Minnesota

Wells Fargo, MN N.A., Minneapolis, Minnesota

Bayside Bank, Minnetonka, Minnesota

First National Bank of Moose Lake, Moose Lake, Minnesota

United Prairie Bank, Mountain Lake, Minnesota

American Bank of the North, Nashwauk, Minnesota

State Bank of New Prague, New Prague, Minnesota

ProGrowth Bank, Nicollet, Minnesota

Midwest Bank NA, Parkers Prairie, Minnesota

First National Bank of Pine City, Pine City, Minnesota

Premier Bank Rochester, Rochester, Minnesota

Citizens State Bank of Roseau, Roseau, Minnesota

Bremer Bank, N.A., St. Cloud, Minnesota

St. James Federal Savings and Loan Association, St. James, Minnesota

Liberty State Bank, St. Paul, Minnesota

Nicollet County Bank of Saint Peter, St. Peter, Minnesota

Farmers State Bank of Trimont, Trimont, Minnesota

The First National Bank of Walker, Walker, Minnesota

Roundbank, Waseca, Minnesota

Community Bank Winsted, Winsted, Minnesota

First Independent Bank of Wood Lake, Wood Lake, Minnesota

Citizens Bank of Amsterdam, Amsterdam, Missouri

Bank of Jacomo, Blue Springs, Missouri

Community State Bank of Bowling Green, Bowling Green, Missouri

Pony Express Bank, Braymer, Missouri

Mississippi County Savings & Loan Association,Charleston, Missouri

CSB Bank, Claycomo, Missouri

Citizens Union State Bank and Trust, Clinton, Missouri

First National Bank & Trust, Columbia, Missouri

Meramec Valley Bank, Ellisville, Missouri

New Era Bank, Fredericktown, Missouri

Bank Star One, Fulton, Missouri

America Loan and Savings Association, Hannibal, Missouri

The Central Trust Bank, Jefferson City, Missouri

Macon-Atlanta State Bank, Macon, Missouri

Regional Missouri Bank, Marceline, Missouri

Nodaway Valley Bank, Maryville, Missouri

Independent Farmers Bank, Maysville, Missouri

Heritage State Bank, Nevada, Missouri

Southwest Community Bank, Ozark, Missouri

Palmyra State Bank, Palmyra, Missouri

Farley State Bank, Parkville, Missouri

Perry State Bank, Perry, Missouri

Citizens Community Bank, Pilot Grove, Missouri

Farmers Bank of Portageville, Portageville, Missouri

Pulaski Bank, Saint Louis, Missouri

Bank of Salem, Salem, Missouri

The Merchants & Farmers Bank of Salisbury, Salisbury, Missouri

Community Bank of Pettis County, Sedalia, Missouri

Empire Bank, Springfield, Missouri

Liberty Bank, Springfield, Missouri

Signature Bank, Springfield, Missouri

Bank Star of the Bootheel, Steele, Missouri

The Tipton Latham Bank, N.A., Tipton, Missouri

Bank of Washington, Washington, Missouri

West Plains Savings and Loan Association, West Plains, Missouri

First and Farmers Bank, Portland, North Dakota

First International Bank & Trust, Watford City, North Dakota

Wells Fargo South Dakota, Sioux Falls, South Dakota

Federal Home Loan Bank of Dallas—District 9

Southbank, A Federal Savings Bank, Huntsville, Alabama

Community Bank, Cabot, Arkansas

Farmers Bank and Trust Company, Clarksville, Arkansas

First State Bank, Conway, Arkansas

Bank of Eureka Springs, Eureka Springs, Arkansas

McIlroy Bank & Trust, Fayetteville, Arkansas

First National Bank of Fort Smith, Arkansas, Fort Smith, Arkansas

Peoples Bank of Imboden, Imboden, Arkansas

Bank of Lake Village, Lake Village, Arkansas

Bank of the Ozarks, Little Rock, Arkansas

First State Bank, Lonoke, Arkansas

Union Bank of Mena, Mena, Arkansas

First Bank of Montgomery County, Mount Ida, Arkansas

Newport Federal Savings Bank, Newport, Arkansas

First State Bank, Parkin, Arkansas

First Arkansas Valley Bank, Russellville, Arkansas

Bank of Salem, Salem, Arkansas

First Security Bank, Searcy, Arkansas

Simmons First Bank of Searcy, Searcy, Arkansas

Springdale Bank & Trust, Springdale, Arkansas

The Bank of Yellville, Yellville, Arkansas

Fidelity Bank & Trust Company, Baton Rouge, Louisiana

Globe Homestead FSA, Metairie, Louisiana

State-Investors Bank, Metairie, Louisiana

Home Federal Savings and Loan Association, Shreveport, Louisiana

Citizens Bank and Trust Company of Vivian, LA, Inc., Vivian, Louisiana

Cleveland Community Bank, s.s.b., Cleveland, Mississippi

First Federal Bank for Savings, Columbia, Mississippi

Citizens Bank & Trust Company, Louisville, Mississippi

Quitman Tri-County Federal Credit Union, Marks, Mississippi

Community First National Bank, Las Cruces, New Mexico

Pioneer Bank, Roswell, New Mexico

First National Bank of Santa Fe, Santa Fe, New Mexico

Liberty Bank, SSB, Austin, Texas

International Bank of Commerce, Brownsville, Texas

First American Bank Texas, SSB, Bryan, Texas

American Bank, NA, Corpus Christi, Texas

Bluebonnet Savings Bank FSB, Dallas, Texas

Guaranty Bank, Dallas, Texas

State Bank and Trust Company, Dallas, Dallas, Texas

The Bank & Trust, Del Rio, Texas

Western Bank and Trust, Duncanville, Texas

Bank of the West, El Paso, Texas

Government Employees Credit Union, El Paso, Texas

OmniBank, N.A., Houston, Texas

Houston Savings Bank, fsb, Houston, Texas

New Era Life Insurance Company, Houston, Texas

Southwest Bank of Texas, N.A., Houston, Texas

The First National Bank of Hughes Springs, Hughes Springs, Texas

Village Bank and Trust Company, Inc., Lakeway, Texas

International Bank of Commerce, Laredo, Texas

First State Bank, Moulton, Texas

Liberty Bank, North Richland Hills, Texas

Interstate Bank, ssb, Perryton, Texas

Cypress Bank, FSB, Pittsburg, Texas

Community Credit Union, Plano, Texas

First National Bank in Quanah, Quanah, Texas

Benchmark Bank, Quinlan, Texas

Peoples State Bank, Rocksprings, Texas

Crockett National Bank, San Angelo, Texas

Texas State Bank, San Angelo, Texas

Frost National Bank, San Antonio, Texas

State Bank & Trust of Seguin, Texas, Seguin, Texas

Cedar Creek Bank, Seven Points, Texas

Citizens Bank, Slaton, Texas

Texas National Bank, Tomball, Texas

First National Bank of Olney, Trinity, Texas

Southside Bank, Tyler, Texas

First Victoria National, Victoria, Texas

TexasBank, Weatherford, Texas

International Bank of Commerce, Zapata, Texas

Federal Home Loan Bank of Topeka—District 10

Gateway Credit Union, Aurora, Colorado

FirstBank of Avon, Avon, Colorado

Canon National Bank, Canon City, Colorado

Ent Federal Credit Union, Colorado Springs, Colorado

First State Bank, Colorado Springs, Colorado Springs, Colorado

Peoples National Bank Colorado, Colorado Springs, Colorado

Citizens State Bank, Cortez, Colorado

Guaranty Bank and Trust Company, Denver, Colorado

The State Bank, Rocky Ford, Colorado

FirstBank of Vail, Vail, Colorado

Community State Bank, Coffeyville, Kansas

Conway Bank, NA, Conway Springs, Kansas

The City State Bank, Fort Scott, Kansas

The Liberty Savings Association, FSA, Fort Scott, Kansas

First FS&LA, Independence, Kansas

First National Bank, Independence, Kansas

MidAmerican Bank & Trust Company, na, Leavenworth, Kansas

Kansas State Bank of Manhattan, Manhattan, Kansas

Stockgrowers State Bank, Maple Hill, Kansas

Citizens State Bank of Marysville, Marysville, Kansas

First Bank of Medicine Lodge, Medicine Lodge, Kansas

Montezuma State Bank, Montezuma, Kansas

Kansas State Bank, Overbrook, Kansas

1st Financial Bank, Overland Park, Kansas

First National Bank in Pratt, Pratt, Kansas

Rose Hill Bank, Rose Hill, Kansas

The Bennington State Bank, Salina, Kansas

First National Bank of Scott City, Scott City, Kansas

Security State Bank, Scott City, Kansas

Centera Bank, Sublette, Kansas

First Federal Savings & Loan Association of WaKeeney, WaKeeney, Kansas

First National Bank of Wamego, Wamego, Kansas

Kaw Valley State Bank, Wamego, Kansas

Fidelity Bank, Wichita, Kansas

First National Bank and Trust of Fullerton, Fullerton, Nebraska

Geneva State Bank, Geneva, Nebraska

Equitable Federal Savings Bank of Grand Island, Grand Island, Nebraska

Home FS&LA of Grand Island, Nebraska, Grand Island, Nebraska

Harvard State Bank, Harvard, Nebraska

Hershey State Bank, Hershey, Nebraska

Nebraska National Bank, Kearney, Nebraska

Platte Valley State Bank and Trust Company, Kearney, Nebraska

Bank of Keystone, Keystone, Nebraska

Home FS&LA of Nebraska, Lexington, Nebraska

Lincoln Federal Savings Bank of Nebraska, Lincoln, Nebraska

Security Federal Savings, Lincoln, Nebraska

Sherman County Bank, Loup City, Nebraska

First National Bank Northeast, Lyons, Nebraska

The Bank of Madison, Madison, Nebraska

Madison County Bank, Madison, Nebraska

BankFirst, Norfolk, Nebraska

First National Bank, North Platte, North Platte, Nebraska

Nebraskaland National Bank, North Platte, Nebraska

Pender State Bank, Pender, Nebraska

Midwest Bank, N.A., Pierce, Nebraska

The Ravenna Bank, Ravenna, Nebraska

Sidney Federal Savings & Loan Association, Sidney, Nebraska

Dakota County State Bank, South Sioux City, Nebraska

Springfield State Bank, Springfield, Nebraska

Bank of St. Edward, St. Edward, Nebraska

Tecumseh Building and Loan Association, Tecumseh, Nebraska

First National Bank Utica NE, Utica, Nebraska

Farmers State Bank, Wallace, Nebraska

Saline State Bank, Wilber, Nebraska

Citizens National Bank of Wisner, Wisner, Nebraska

66 Federal Credit Union, Bartlesville, Oklahoma

Bank of Cordell, Cordell, Oklahoma

Bank of Hydro, Hydro, Oklahoma

Armstrong Bank, Muskogee, Oklahoma

Citizens State Bank, Okemah, Oklahoma

First Enterprise Bank, Oklahoma City, Oklahoma

Union Bank, NA, Oklahoma City, Oklahoma

The First National Bank of Texhoma, Texhoma, Oklahoma

Community Bank & Trust Company, Tulsa, Oklahoma

Energy One Federal Credit Union, Tulsa, Oklahoma

Grand Lake Bank, Tulsa, Oklahoma

First Bank & Trust Company, Wagoner, Oklahoma

Weleetka State Bank, Weleetka, Oklahoma

Canadian State Bank, Yukon, Oklahoma

Federal Home Loan Bank of San Francisco—District 11

BankUSA, fsb, Phoenix, Arizona

Fremont Investment & Loan, Anaheim, California

Vista Federal Credit Union, Burbank, California

La Jolla Bank, F.S.B., Escondido, California

Eastern International Bank, Los Angeles, California

Chevron Federal Credit Union, Oakland, California

Wescom Credit Union, Pasadena, California

Summit State Bank, Rohnert Park, California

California Bank and Trust, San Diego, California

San Diego County Credit Union, San Diego, California

United Commercial Bank, San Francisco, California

Patelco Credit Union, San Francisco, California

Luther Burbank Savings, Santa Rosa, California

Community Banks of Tracy, Tracy, California

Yolo Community Bank, Woodland, California

Redding Bank of Commerce, Yuba City, California

Federal Home Loan Bank of Seattle—District 12

Wells Fargo, Anchorage, Alaska

First Bank, Ketchikan, Alaska

Central Pacific Bank, Honolulu, Hawaii

Territorial Savings and Loan Assn, Honolulu, Hawaii

Farmers and Merchants State Bank, Boise, Idaho

Home FS&LA of Nampa, Nampa, Idaho

Valley Bank of Helena, Helena, Montana

American Bank of Montana, Livington, Montana

LibertyBank, Eugene, Oregon

NW Community Credit Union, Eugene, Oregon

Chetco Federal Credit Union, Harbor, Oregon

West Coast Bank, Lake Oswego, Oregon

Premier West Bank, Medford, Oregon

McKay Dee Hospital Credit Union, Ogden, Utah

Centennial Bank, Ogden, Utah

American Investment Bank, Salt Lake City, Utah

Mountain America Credit Union, Salt Lake City, Utah

Zions First National Bank, Salt Lake City, Utah

Kitsap Community FCU, Bremerton, Washington

State Bank of Concrete, Concrete, Washington

Washington State Bank NA, Federal Way, Washington

Issaquah Bank, Issaquah, Washington

First Community Bank of Washington, Lacey, Washington

Spokane Teachers Credit Union, Liberty Lake, Washington

Cowlitz Bank, Longview, Washington

Heritage Savings Bank, Olympia, Washington

United Savings and Loan Bank, Seattle, Washington

Viking Community Bank, Seattle, Washington

Wheatland Bank, Spokane, Washington

Sound Banking Company, Tacoma, Washington

TAPCO Credit Union, Tacoma, Washington

Banner Bank, Walla Walla, Washington

Security First Bank, Cheyenne, Wyoming

Cowboy State Bank, Ranchester, Wyoming

First State Bank of Thermopolis, Thermopolis, Wyoming

II. Public Comments

To encourage the submission of public comments on the community support performance of Bank members, on or before April 28, 2003, each Bank will notify its Advisory Council and nonprofit housing developers, community groups, and other interested parties in its district of the members selected for community support review in the 2002-03 fifth quarter review cycle. 12 CFR 944.2(b)(2)(ii). In reviewing a member for community support compliance, the Finance Board will consider any public comments it has received concerning the member. 12 CFR 944.2(d). To ensure consideration by the Finance Board, comments concerning the community support performance of members selected for the 2002-03 fifth quarter review cycle must be delivered to the Finance Board on or before the May 26, 2003 deadline for submission of Community Support Statements.

Dated: April 7, 2003.
Arnold Intrater,
General Counsel.

[FR Doc. 03-9020 Filed 4-11-03; 8:45 am]

BILLING CODE 6725-01-P